DEPARTMENT OF THE INTERIOR

Fish and Wildlife Service

[FWS-R3-ES-2020-N108; FX3ES11130300000-201-FF03E00000]

Endangered and Threatened Wildlife and Plants; Initiation of 5-Year Status Review for the Northern Long-Eared Bat

AGENCY: Fish and Wildlife Service, Interior.

ACTION: Notice of initiation of review; request for information.

SUMMARY: We, the U.S. Fish and Wildlife Service, are initiating a 5-year status review under the Endangered Species Act of 1973, as amended, for the northern long-eared bat (Myotis septentrionalis). A 5-year status review is based on the best scientific and commercial data available at the time of the review; therefore, we are requesting submission of any such information that has become available since the last review for the species to determine whether the listed species should be delisted or reclassified.

DATES: To ensure consideration, please send your written information by February 22, 2021. However, we will continue to accept new information about any listed species at any time.

ADDRESSES: Please submit information by one of the following methods:

• Email: TwinCities@fws.gov.

• U.S. mail: USFWS, 4101 American Boulevard East, Bloomington, MN 55425.

FOR FURTHER INFORMATION CONTACT: Jill Utrup, 952-252-0092. Individuals who are hearing impaired or speech impaired may call the Federal Relay Service at 800-877-8339 for TTY assistance.

SUPPLEMENTARY INFORMATION: We are initiating a 5-year status review under the Endangered Species Act of 1973, as amended (ESA; 16 U.S.C. 1531 et seq.), for the northern long-eared bat (Myotis septentrionalis). A 5-year status review is based on the best scientific and commercial data available at the time of the review; therefore, we are requesting submission of any such information that has become available since the last review for the species.

Why do we conduct 5-year reviews?

Under the ESA, we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

What information do we consider in our review?

A 5-year review considers the best scientific and commercial data that have become available since the current listing determination or most recent status review of each species, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the ESA); and

(E) Other new information, data, or corrections, including but not limited to taxonomic or nomenclatural changes, identification of erroneous information contained in the List, and improved analytical methods.

New information will be considered in the 5-year review and ongoing recovery programs for the species.

What species is under review?

This notice announces our active 5-year status review for the northern long-eared bat.

Common name | Scientific name | Taxonomic group | Listing status | Where listed | Final listing rule (Federal Register citation and publication date)
Northern long-eared bat | Myotis septentrionalis | Mammal | T | U.S.A. (AL, AR, CT, DE, DC, FL, GA, IL, IN, IA, KS, KY, LA, ME, MD, MA, MI, MN, MS, MO, MT, NE, NH, NJ, NY, NC, ND, OH, OK, PA, RI, SC, SD, TN, VT, VA, WV, WI, WY); Canada (AB, BC, LB, MB, NB, NF, NS, NT, ON, PE, QC, SK, YT) | 80 FR 17973; April 2, 2015.¹

Request for Information

¹ A court remanded the final rule to the Service for a new listing determination consistent with the court's order. Center for Biological Diversity v. Everson, 435 F. Supp. 3d (D.D.C. 2020). The ruling did not invalidate the final rule or change the threatened status of the northern long-eared bat.

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

Public Availability of Submissions

Before including your address, phone number, email address, or other personal identifying information in your comment, you should be aware that your entire comment—including your personal identifying information—may be made publicly available at any time. While you can ask us in your comment to withhold your personal identifying information from public review, we cannot guarantee that we will be able to do so.

Authority

We publish this notice under the authority of the Endangered Species Act of 1973, as amended (16 U.S.C. 1531 et seq.).

Lori Nordstrom,
Assistant Regional Director, Ecological Services, Midwest Region.

[FR Doc. 2020-28415 Filed 12-22-20; 8:45 am]

BILLING CODE 4333-15-P